DEPARTMENT OF HEALTH AND HUMAN SERVICES

42 CFR Part 84

[Docket Number NIOSH-005]

RIN 0920-AA10

Approval Tests and Standards for Closed-Circuit Escape Respirators

AGENCY: Centers for Disease Control and Prevention, HHS.

ACTION: Notice of proposed rulemaking; Reopening of comment period and notice of public meetings.

SUMMARY: The Department of Health and Human Services (DHHS) is reopening the comment period until April 10, 2009 and will hold public meetings concerning the proposed rule for Approval Tests and Standards for Closed-Circuit Escape Respirators that was published in the Federal Register on Wednesday, December 10, 2008.

DATES: The comment period for the proposed rule published December 10, 2008 (73 FR 75027), is reopened. All written comments on the proposed rule must be received on or before April 10, 2009. Public meetings on this proposed rule will be held on March 16 and March 23, 2009. Details concerning those meetings are in the SUPPLEMENTARY INFORMATION section below.

ADDRESSES: You may submit comments, identified by RIN: 0920-AA10, by any of the following methods:

• Federal eRulemaking Portal: http://www.regulations.gov. Follow the instructions for submitting comments.

• E-mail: niocindocket@cdc.gov. Include “RIN: 0920-AA10” and “42 CFR pt. 84” in the subject line of the message.

• Mail: NIOSH Docket Office, Docket #005, Robert A. Taft Laboratories, MS-C34, 4676 Columbia Parkway, Cincinnati, OH 45226.

Instructions: All submissions received must include the agency name and docket number or Regulatory Information Number (RIN) for this rulemaking, RIN: 0920-AA10. All comments received will be posted without change to http://www.cdc.gov/niosh/docket, including any personal information provided.

Docket: For access to the docket to read background documents or comments received, go to http://www.cdc.gov/niosh/docket.

SUPPLEMENTARY INFORMATION: The Department of Health and Human Services published a proposed rule on the Approval Tests and Standards for Closed-Circuit Escape Respirators on December 10, 2008. The Department requested comments on or before February 9, 2009. The Department planned to hold public meetings before that date but these meetings could not be scheduled.

The Department will hold two public meetings on the proposed rule at the following times and locations: March 16, 2009, beginning at 9 a.m., MST, and expected to end at 12:30 MST at the Marriot Denver Tech Center, 4900 S. Syracuse Street, Denver, CO 80237; and March 23, 2009, beginning at 1 p.m. est, and expected to end at 5 p.m. EST, at the Marriot Inn and Conference Center UMUC, 3501 University Boulevard E., Adelphi, MD 20783. As a result, the Department is also reopening the comment period until April 10, 2009 to permit additional time for interested parties to submit comments.

FOR FURTHER INFORMATION CONTACT: Jonathan V. Szalajda, NIOSH, National Personal Protective Technology Laboratory (NPPTL), Post Office Box 18070, 626 Cochrans Mill Road, Pittsburgh, Pennsylvania 15236, telephone (412) 386-5200, facsimile (412) 386-4089, e-mail zfx1@cdc.gov.

Dated: February 26, 2009.
Charles E. Johnson,
Acting Secretary.

[FR Doc. E9-4620 Filed 3-3-09; 8:45 am]

BILLING CODE 4163-18-P